DEPARTMENT OF COMMERCE

International Trade Administration

Notice of Determination with Respect to Modification of Tariff Rate Quotas on the Import of Certain Worsted Wool Fabrics

AGENCY: International Trade Administration, Department of Commerce.

ACTION: The Department has recommended that no modification be made to the 2002 tariff rate quotas.

SUMMARY: The Department of Commerce has determined that the 2002 limitation on the quantity of imports of worsted wool fabrics that may be imported under the tariff rate quotas established by Title V of the Trade and Development Act of 2000 should not be modified.

FOR FURTHER INFORMATION CONTACT: Sergio Botero, Office of Textiles and Apparel, U.S. Department of Commerce, (202) 482-4058.

BACKGROUND:

Title V of the Trade and Development Act of 2000 (The Act) creates two tariff rate quotas, providing for temporary reductions in the import duties on two categories of worsted wool fabrics suitable for use in making suits, suit-type jackets, or trousers. For worsted wool fabric with average fiber diameters greater than 18.5 microns (Harmonized Tariff Schedule of the United States (HTS) heading 9902.51.11), the reduction in duty is limited to 2,500,000 square meters per year. For worsted wool fabric with average fiber diameters of 18.5 microns or less (HTS heading 9902.51.12), the reduction is limited to 1,500,000 square meters per year. Both these limitations may be modified by the President, not to exceed 1,000,000 square meters per year for each tariff rate quota.

The Act requires annual consideration of requests by U.S. apparel manufacturers for modification of the limitation on the quantity of fabric that may be imported under the tariff rate quotas, and grants the President the authority to proclaim modifications to the limitations. In determining whether to modify the limitations, specified U.S. market conditions with respect to worsted wool fabric and worsted wool apparel must be considered.

In Presidential Proclamation 7383, of December 1, 2000, the President authorized the Secretary of Commerce to determine whether the limitations on the quantity of imports of worsted wool fabrics under the tariff rate quotas should be modified and to recommend to the President that appropriate modifications be made.

On January 22, 2001 the Department published regulations establishing procedures for considering requests for modification of the limitations. 66 FR 6459, 15 C.F.R. 340. These procedures include an annual solicitation in the Federal Register of requests to modify the limitations, notice in the Federal Register of any such request(s) and a solicitation of public comments on such request(s).

The regulations provide that not more than 30 days following the close of the comment period, the Department will determine whether the limitations on the quantity of imports under the tariff rate quotas should be modified and recommend to the President that appropriate modifications be made.

On September 14, 2001 the Department published a notice of solicitation of requests for modification of the 2002 tariff rate quotas on the import of certain worsted wool fabric. The Department received four such requests, from Hartmarx Corporation and Hickey-Freeman, on behalf of themselves and the Tailored Clothing Association; Hartz & Company, Inc.; Hugo Boss; and Tom James Company. These requests were for the maximum increase (1,000,000 square meters) in each of the two tariff rate quota limitations (HTS 9902.51.11 and HTS 9902.51.12). On October 24, 2001, the Department solicited comments on the request for a period of 20 days. The Department received comments from seven companies/trade associations. Three of the respondents, the American Apparel and Footwear Association, Corbin Ltd., and Hardwick Clothes, supported the request for modification, and four of the respondents, Burlington Industries, the Northern Textile Association, Victor Forstmann, Inc., and the Warren Corporation, opposed the request for modification.

After reviewing the request, the comments received, and other information obtained, including a report prepared by the U.S. International Trade Commission, and after considering the specific market conditions set forth in the Act, the Department determined that the 2002 limitation on the quantity of imports of worsted wool fabrics that may be imported subject to the tariff rate quotas established by Title V of the Trade and Development Act of 2000 should not be modified. Accordingly, the Department has recommended to the President that no modification be made to the tariff rate quotas.

Dated: December 19, 2001.
D. Michael Hutchinson,
Acting Deputy Assistant Secretary for Textiles, Apparel and Consumer Goods Industries

[FR Doc.01-31701 Filed 12-26-01; 8:45 am]

BILLING CODE 3510-DR-S